FEDERAL COMMUNICATIONS COMMISSION

Notice of Public Information Collection(s) Being Reviewed by the Federal Communications Commission for Extension Under Delegated Authority, Comments Requested

July 12, 2010.

SUMMARY: The Federal Communications Commission, as part of its continuing effort to reduce paperwork burden invites the general public and other Federal agencies to take this opportunity to comment on the following information collection(s), as required by the Paperwork Reduction Act (PRA) of 1995, 44 U.S.C. 3501 - 3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden for small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before [September 17, 2010]. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via email to PRA@fcc.gov.

FOR FURTHER INFORMATION CONTACT: Judith B. Herman, Office of Managing Director, (202) 418-0214. For additional information, contact Judith B. Herman, OMD, 202-418-0214 or email judith-b.herman@fcc.gov.

SUPPLEMENTARY INFORMATION: OMB Control Number: 3060-0166.

Title: Part 42 - Preservation of Records of Communications Common Carriers.

Form No.: N/A.

Type of Review: Extension of a currently approved collection.

Respondents: Business or other for-profit.

Number of Respondents and Responses: 56 respondents; 56 responses.

Estimated Time Per Response: 2 hours.

Frequency of Response: On occasion reporting requirement, recordkeeping requirement and third party disclosure requirement.

Obligation to Respond: Mandatory. Statutory authority for this information collection is contained in 47 U.S.C. section 220.

Total Annual Burden: 112 hours.

Total Annual Cost: N/A.

Privacy Act Impact Assessment: N/A.

Nature and Extent of Confidentiality: Ordinarily questions of a sensitive nature are not involved in the preservation of records of communications common carriers. The Commission contends that areas in which detailed information is required are fully subject to regulation and the issue of data being regarded as sensitive will arise in special circumstances only. In such circumstances, the respondent is instructed on the appropriate procedures to follow to safeguard sensitive data. For procedures for requesting confidential treatment of data, go to 47 CFR 0.459 of the Commission's rules.

Needs and Uses: The Commission will submit this expiring information collection to the Office of Management and Budget (OMB) after this comment period to obtain the three year clearance from them. There is no change in the reporting, recordkeeping and/or third party disclosure requirements. There is no change to the Commission's burden estimates.

Section 220 of the Communications Act of 1934, as amended, makes it unlawful for carriers to willfully destroy information retained for the Commission. Part 42 of the Commission's rules prescribes guidelines to ensure that carriers maintain the necessary records needed by the FCC for its regulatory obligations.

Section 42.2 requires a carrier to: (1) Maintain at its operating company headquarters a master index of records which identifies the records retained, the related retention period, and the locations where the records are maintained; and (2) to explain the premature loss or destruction of any records by adding a certified statement to the index listing the lost records and describing the circumstances of the loss.

Section 42.5 requires that records kept in a machine-readable medium be accompanied by a statement indicating the type of data included in the record and certifying that the information contained in it has been accurately duplicated.

Section 42.6 requires a carrier to retain telephone toll records for 18 months that are necessary to provide the following billing information about telephone toll calls; the name, address, and telephone number of the caller, telephone number called, date, time and length of the call.

Section 42.7 allows a carrier to establish its own retention periods for all of its records, except records of telephone toll calls and records relevant to complaint proceedings.

Section 42.10 requires a nondominant interexchange carrier (IXC) to make available to the public, in at least one location, during normal business hours, information on the current rates, terms, and conditions for all of its interstate, domestic interexchange services. The information also must be made available on a carriers Internet website.

Section 42.11 requires that a nondominant IXC maintain, for submission to the Commission and to state regulatory commissions upon request, price and service information regarding all of the carrier's international and interstate, domestic, interexchange service offerings. (Both 47 CFR sections 42.10 and 42.11 are approved under OMB control number 3060-0704.)

Documentation of premature records destruction is necessary so that the Commission can be aware of the frequency and consequences of such destruction. If carriers were allowed to destroy records at will, the Commission could lose historical information, thus making it impossible to regulate the industry properly. A specific retention period for telephone toll records of eighteen months is imposed to assist Department of Justice in law enforcement. See section 42.6 of the Commission's rules.

Federal Communications Commission.
Marlene H. Dortch,
Secretary, Office of the Secretary, Office of Managing Director.

[FR Doc. 2010-17458 Filed 7-16-10; 8:45 am]

BILLING CODE 6712-01-S